DEPARTMENT OF EDUCATION

[Docket No.: ED-2018-ICCD-0013]

Agency Information Collection Activities; Submission to the Office of Management and Budget for Review and Approval; Comment Request; State Tribal Education Partnership (STEP) Program Application (1894-0001)

AGENCY: Office of Elementary and Secondary Education (OESE), Department of Education (ED).

ACTION: Notice.

SUMMARY: In accordance with the Paperwork Reduction Act of 1995, ED is proposing an extension of an existing information collection.

DATES: Interested persons are invited to submit comments on or before March 14, 2018.

ADDRESSES: To access and review all the documents related to the information collection listed in this notice, please use http://www.regulations.gov by searching the Docket ID number ED-2018-ICCD-0013. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW, LBJ, Room 216-44, Washington, DC 20202-4537.

FOR FURTHER INFORMATION CONTACT: For specific questions related to collection activities, please contact Shahla Ortega, 202-453-5602.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: State Tribal Education Partnership (STEP) Program Application (1894-0001).

OMB Control Number: 1810-0723.

Type of Review: An extension of an existing information collection.

Respondents/Affected Public: State, Local, and Tribal Governments.

Total Estimated Number of Annual Responses: 80.

Total Estimated Number of Annual Burden Hours: 4,000.

Abstract: The purposes of the STEP program are to: (1) Promote increased collaboration between Tribal educational agencies (TEAs) and the State educational agencies (SEAs) and local educational agencies (LEAs) that serve students from affected tribes; and (2) build the capacity of TEAs to conduct certain administrative functions under certain Elementary and Secondary Education Act of 1965 (ESEA) formula grant programs for eligible schools, as determined by the TEA, SEA, and LEA. This award is made under the Indian Education National Activities authority, as authorized under ESEA title VI, Part A (20 U.S.C. 7451(a)(4)).

This is a renewal of the application package for the State Tribal Education Partnership Program, to be used in forthcoming competitions. The application package reflects the program office's priorities and program-specific selection criteria.

Dated: February 7, 2018.
Tomakie Washington,
Acting Director, Information Collection Clearance Division, Office of the Chief Privacy Officer, Office of Management.

[FR Doc. 2018-02753 Filed 2-9-18; 8:45 am]

BILLING CODE 4000-01-P